ENVIRONMENTAL PROTECTION AGENCY

[FRL-8749-9]

Modification to the NPDES General Permit for Oil and Gas Exploration, Development and Production Facilities in State and Federal Waters in Cook Inlet, AK, Permit No. AKG-31-5000 (Permit)

AGENCY: Environmental Protection Agency (EPA).

ACTION: Final notice of modification to NPDES general permit.

SUMMARY: On May 25, 2007, EPA issued the final Permit, with an effective date of July 2, 2007 (May 31, 2007, 72 FR 30377). On July 3, 2007, Union Oil Company of California and XTO Energy, Inc. (Petitioners) filed the Petition for Review, challenging three provisions of the Permit (the “contested terms”), cited below. On the same date, Petitioners filed an Emergency Motion for Stay under Circuit Rule 27-3, requesting the Court stay the contested terms. EPA did not oppose the Emergency Stay and on July 5, 2007, the Court issued an order granting Petitioners' Emergency Motion for Stay.

On August 21, 2008, EPA and Petitioners reached a settlement agreement. Under this agreement, EPA published in the Federal Register on October 21, 2008 (73 FR 62497) a proposal to modify the Permit's contest terms by removing the third sentence of Condition II.A.10, the second sentence of Condition II.C.3, and the fourth sentence of Footnote 1 to Table 7-A, from the Permit. Intervenor Cook Inletkeeper did not object to the settlement agreement.

The proposed Permit modification was issued to the public for a 30-day comment period, which ended on November 20, 2008. No substantive public comments were received.

DATES: The Permit modification will become effective on December 24, 2008.

ADDRESSES: Copies of the modified Permit and Fact Sheet are available on the EPA Region 10 Web site at http://www.epa.gov/r10earth/waterpermits.htm. Requests for copies may also be made to Audrey Washington at (206) 553-0523, or electronically at washington.audrey@epa.gov.

FOR FURTHER INFORMATION CONTACT: Additional information can be obtained by visiting the EPA Region 10 Web site above or by contacting Hanh Shaw at shaw.hanh@epa.gov or (206) 553-0171.

SUPPLEMENTARY INFORMATION: Executive Order 12866: The Office of Management and Budget has exempted this action from the review requirements of Executive Order 12866 pursuant to Section 6 of that order.

Regulatory Flexibility Act: After review of the facts presented in the notice printed above, I hereby certify pursuant to the provision of 5 U.S.C. 553(b) that the Permit modification will not have a significant impact on a substantial number of small entities. Moreover, the Permit reduces a significant administrative burden on regulated resources.

Signed this 2nd day of December, 2008.
Michael F. Gearheard,
Director, Office of Water and Watersheds, Region 10.

[FR Doc. E8-29220 Filed 12-9-08; 8:45 am]

BILLING CODE 6560-50-P